DEPARTMENT OF HEALTH AND HUMAN SERVICES

Substance Abuse and Mental Health Services Administration

Center for Substance Abuse Prevention; Notice of Meeting

Pursuant to Public Law 92-463, notice is hereby given that the Substance Abuse and Mental Health Services Administration's (SAMHSA) Center for Substance Abuse Prevention (CSAP) Drug Testing Advisory Board (DTAB) will meet via web conference on December 7, 2016, from 10:00 a.m. to 5:00 p.m. EST.

The Board will meet in closed session on December 7, 2016, from 10:00am to 5:00pm, to review and discuss draft Mandatory Guidelines for Federal Workplace Drug Testing Programs (Hair) proposals. Therefore, this meeting is closed to the public as determined by the Administrator, SAMHSA, in accordance with 5 U.S.C. 552b(c)(9)(B) and 5 U.S.C. App. 2, Section 10(d).

Meeting information and a roster of DTAB members may be obtained by accessing the SAMHSA Advisory Committees Web site, http://www.samhsa.gov/about-us/advisory-councils/drug-testing-advisory-board-dtab, or by contacting Brian Makela.

Committee Name: Substance Abuse and Mental Health Services Administration's Center for Substance Abuse Prevention, Drug Testing Advisory Board.

Dates/Time/Type: December 7, 2016, from 10:00 a.m. to 5:00 p.m., EST: Closed.

Place: Parklawn Building, 5600 Fishers Lane, Rockville, Maryland 20857.

Contact: Brian Makela, Division of Workplace Programs, 5600 Fishers Lane, Room 16N02B, Rockville, Maryland 20857.

Telephone: 240-276-2600.

Fax: 240-276-2610.

Email: brian.makela@samhsa.hhs.gov.

Brian Makela,
Chemist, Substance Abuse and Mental Health Services Administration.

[FR Doc. 2016-27032 Filed 11-8-16; 8:45 am]

BILLING CODE 4162-20-P